DEPARTMENT OF HEALTH AND HUMAN SERVICES

Administration for Children and Families

Submission for OMB Review; Services Provided to Unaccompanied Children (0970-0553)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on revisions to an approved information collection. The request consists of several forms that allow the Unaccompanied Children (UC) Program to provide services to UC as required by statute and ORR policy.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: ORR received several comments on this information collection in response to the Federal Register Notice published on February 25, 2021, (86 FR 11537) and has provided responses to those comments in its final submission to OMB. UC Path is critical to program operations, and it is important that rollout of the new system not be delayed. Therefore, the below description details what will be included in the initial launch of the UC Path case management system and revisions based on public comments will be made after initial launch. ORR plans to conduct a deliberative review of commenters' suggestions and concerns and submit a request for revisions to this information collection request in January 2022. The upcoming information collection request will also include revisions based on feedback from UC Path system users (i.e., ORR grantee, contractor, and federal staff).

A. ORR revised 11 instruments currently approved under OMB #0970-0553 and plans to add 11 new instruments to this collection. All instruments will be incorporated into ORR's new case management system, UC Path. In addition, ORR plans to remove one currently approved instrument from this collection. Finally, ORR plans to replace the term “unaccompanied alien child (UAC)” with “unaccompanied children (UC)” throughout the instruments in this collection.

1. Sponsor Assessment (Form S-5): This instrument is used by case managers to document their assessment of the suitability of a potential sponsor to provide for the safety and well-being of a UC. ORR reformatted and reorganized the instrument and reworded some of the fields. In addition, ORR made the following revisions:

○ In the “Sponsor Basic Information” section, added the field “Relationship to UC.”

○ In the “Family Relationships” section, added the field “Home Address” and removed the field “Are you married to your partner?”

○ In the “Household Composition” section, removed the field “Valid Identity Document Received.”

○ In the “Previous Sponsorship” section, removed the field “How many children did you sponsor?” and added the following fields: “What contact do you still have with the child?,” What is the child's current legal status?,” and “HHM/AACG Name.”

○ In the “Proof of Identity” section, removed the following fields: “Sponsor's identity is verified,” “Household member's identity is verified,” “Adult Caregiver's identity is verified,” and “Additional information on identity.”

○ In the “Proof of Immigration Status or U.S. Citizenship” section, added the following fields: “Proof of Immigration Document Type,” “Expiration Date,” “Date Documents Issued,” and “Verified by Government Agency or Consulate.”

○ In the “Proof of Address” section, added the field “Alternate Phone” and removed the following fields: “Work Phone,” “Fax,” “Describe the area/neighborhood where you reside,” “Do you receive your mail at a different address?,” “If yes, what is the address that you use to receive mail?,” and “Resided at Address Within Past 5 Years.”

○ In the “Proof of Financial Stability” section, added the following fields: “List Proof of Financial Stability documents provided,” “Proof of Financial Stability Document Type,” and “Date Document Issued.”

○ In the “Care Plan” section, added the fields “Are you aware of any mental health conditions of the UC which will need treatment?” and “Explain how you plan to supervise and ensure the safety of the UC” and removed eight other fields.

○ Removed the “Safety Plan” section.

○ In the “Supervision Plan” section, removed the fields “SSN/A No.” and “Explain how you plan to supervise the minor.”

○ In the “Alternate Adult Caregiver Plan” section, removed the field “SSN/A No.”

○ In the “Self-Disclosed Criminal History” section, added the fields “Conviction” and “List any child abuse and neglect history” and removed six other fields.

○ In the “Sponsor's Knowledge of UC Journey and Apprehension” section, added the field “If there is a debt still owed for the UC's journey, please explain.”

○ In the “Human Trafficking” section, added the fields “If you have travelled back to your country of origin since your arrival in the U.S., please explain.” and “Were you ever restricted from quitting or leaving the work?” and removed 16 other fields.

2. Home Study Assessment (formerly titled Home Study Report) (Form S-6): This instrument is used by home study providers to document their assessment of a potential sponsor after performing a home site visit. ORR reformatted and reorganized the instrument and reworded some of the fields. In addition, ORR made the following revisions:

○ In the “UC Background” section, removed the question related to the UC's understanding of certain U.S. laws. Questions about how sponsor disciplines children and whether UC would feel safe living with sponsor were replaced with a single question asking if the UC has any concerns about living with sponsor.

○ In the “Sponsor's Motivation and Relationship to UC” section, replaced the question on the location of the sponsor's family members in the U.S. and their relationship to the UC with a question asking if the sponsor has a family support system in the U.S. and whether they can provide assistance.

○ In the “Household Members” section, removed fields related to background checks because this information is documented by case managers elsewhere in UC Path.

○ In the “Summary” section, removed the risk factors and protective factors table.

3. Adult Contact Profile (formerly titled New Sponsor) (Form S-7): The purpose of this instrument has been expanded; it now acts as a hub where users can access all records related to a sponsor, adult household member, or alternate adult caregiver. The average burden minutes per response was increased from 20 to 45 minutes. In addition, ORR made the following revisions:

○ Replaced the “UC Basic Information” section with the “Associated UCs” table.

○ Removed the following fields: “SSN,” “Country of Residency,” “Query ID,” “Does anyone in the Household have a Serious Contagious Disease?,” and “Do any of the Occupants Have Criminal Convictions or Charges, Other Than Minor Traffic Violations?”

○ Added the following fields: “AKA,” “Current Age,” “Primary Language Spoken,” “Other Spoken Languages,” “Additional Cultural Information,” and “Legacy Address.”

○ Replaced the fields related to address and address flags with the “Address History” section.

○ Moved the information from the “Affidavits of Support” table to the Sponsor Assessment.

4. Initial Intakes Assessment (Form S-8): This instrument is used by care providers to screen UC for trafficking or other safety concerns, special needs, danger to self and others, medical conditions, and mental health concerns. ORR reformatted and reorganized the instrument and reworded some of the fields. The average burden minutes per response was increased from 15 to 20 minutes. In addition, ORR made the following revisions:

○ In the “Information” section, removed the field “Date of departure from home country” and added the following fields: “City of Birth,” “Neighborhood of Birth,” “Religious Affiliation,” “Other Languages Spoken,” “Who did UC live with before placement?”

○ Replaced the “Family Information” section with the “Family and Friends” and “Adult Contact Relationships” sections.

○ Added new “Significant Information” section, containing six fields.

○ In the “Medical” section, replaced or reworded most fields and expanded the fields related to allergies into multiple fields.

○ Added a new “Medication Overview” section, containing three fields.

○ Revised the available fields in the “Observable or Reported Medical Concerns” section.

○ Reduced the number of fields in the “Mental Health” section to three.

5. Assessment for Risk (Form S-9): This instrument is an assessment administered by care providers to reduce the risk that a child or youth is sexually abused or abuses someone else while in ORR custody. ORR reformatted and reorganized the instrument and reworded some of the fields. In addition, ORR added several fields related to the UC's sexual history and two fields on mental and physical disability and illness. The average burden minutes per response was increased from 30 to 45 minutes.

6. UC Assessment (Form S-11): This instrument is an in-depth assessment used by care providers to document information about the UC that is used to inform provision of services (e.g., case management, legal, education, medical, mental health, home studies), screen for trafficking or other safety concerns, and identify special needs. ORR reformatted and reorganized the instrument and reworded some of the fields. The average burden minutes per response was increased from 45 minutes to 2 hours. In addition, ORR made the following revisions:

○ Added a new “Age-determination or Identity Concern” section, containing 11 fields.

○ In the “Additional UC Information” section, added the following fields: “City of Birth,” “Who did UC live with before placement?,” “Neighborhood of Birth,” and “Other additional information.”

○ In the “Family and Friends” section, removed “Has family in Country of Origin?,” “Has Family in the US?” fields; replaced “Family in Country of Origin” and “Family and Friends in the U.S.” tables with a “Family and Friends” table; and added “Separated from Parents/Legal Guardian?” and “Migrant Protection Protocol case?” fields.

○ Removed the “Medical History” and “Medication Table” from the “Medical” section and added the field “Health care needs are being addressed?”

○ Moved fields in the “Legal” section to the UC Profile and UC Legal Information instruments found in other ORR information collections.

○ Removed all fields from the “Criminal” section and replaced them with two new fields and an area to provide details on any criminal charges (nine fields).

○ Removed the “Mental Health/Behavior” section because that information is available in the mental health area of UC Path.

○ In the “Sponsor Information” section, replaced the table with the “Adult Contact Relationship” table and added a section that displays “Previous Sponsor Applications.”

○ Added a “Documents” section in which documents directly related to case management may be uploaded.

○ In the “Certification” section, created separate areas for both the clinician and case manager to certify that all required sections of the instruments are complete and accurate and added “Translator Name” and “Language” fields.

7. UC Case Review (Form S-12): This instrument is used by care providers to document new information obtained after completion of the UC Assessment. ORR reformatted and reorganized the instrument and reworded some of the fields. The average burden minutes per response was increased from 30 minutes to 2 hours. In addition, ORR made the following revisions:

○ Added a new “Age-determination or Identity Concern” section, containing 11 fields.

○ Created a new “Additional UC Information” section and added the following fields: “UC Case Review Type,” “Who did UC live with before placement?,” “City of Birth,” “Religious Affiliation,” “Neighborhood of Birth,” “Separated from Parents/Legal Guardian?,” and “Parent Separation Case Updates.”

○ In the “Medical” section, added a new “Health care needs are being addressed?” field and a table of “Existing Mental Health Diagnoses” that is auto-populated from information entered into the mental health area of UC Path.

○ Removed the “Medical History” and “Medication Table” from the “Medical” section.

○ In the “Mental Health” section, removed the fields under “Psychological Evaluation” and added the following fields: “Date Completed,” “Date of Evaluation,” and “Evaluator.”

○ Added a new “Case Plan” section, containing seven fields.

○ Moved fields in the “Legal” section to the UC Profile and UC Legal Information instruments found in other ORR information collections.

○ In the “Sponsor Information” section, replaced the table with the “Adult Contact Relationships” table and added a section that displays “Previous Sponsor Applications.”

○ Added a new “Criminal” section (two fields) and an area to provide details on any criminal charges (nine fields).

○ Added a “Documents” section in which documents directly related to case management may be uploaded.

○ Removed the “Recommendations” and “Care Plan” sections.

○ In the “Certification” section, created separate areas for both the clinician and case manager to certify that all required sections of the instruments are complete and accurate and added “Translator Name” and “Language” fields.

8. Individual Service Plan (Form S-13): This instrument is used by care providers to document all services provided to the UC. ORR revised the formatting and reworded some of the fields. In addition, ORR added the following fields: “Contract Number,” “Individual Service Plan,” “Entity Name,” “Notes,” “List Team Members who Contributed to ISP,” “Translator Name,” and “Language.” In addition, ORR added an area where documents directly related to the service plan may be uploaded. The average burden minutes per response was increased from 15 to 20 minutes.

9. Long Term Foster Care Travel Request (Form S-14): This instrument is used by long term foster care providers to request ORR approval for a UC to travel with their foster family outside of the local community. ORR revised the formatting and reworded some of the fields. In addition, ORR added the following fields: “Status,” “Transportation Notes,” “Policy #,” “Remand for Further Information,” and “ORR Decision.” The average burden minutes per response was increased from 15 to 20 minutes.

10. Child Advocate Recommendation and Appointment (Form S-15): This instrument is used by care providers and other stakeholders to recommend appointment of a child advocate for a UC. The child advocate contractor then enters whether a child advocate is available and ORR approves the appointment. ORR reformatted and reorganized the instrument and reworded some of the fields. No changes were made to the content.

11. 30 Day Restrictive Placement Case Review (formerly titled Summary Notes: Thirty Day Restrictive Placement Case Review) (Form S-16): This instrument is used by care providers to document their 30-day review for UC placed in a restrictive setting. ORR revised the formatting and added the following fields: “Out-of-Network RTC Provider,” “Case Manager Name,” “Case Coordinator Name,” “FFS Name,” “Name and Title,” and “Date.”

12. Admission (Form S-18): This instrument is used by ORR grantee case managers and clinicians to document the UC's initial needs, functioning, and history. Other instruments are also accessible from within the Admission instrument, such as transfer requests, travel requests, and various child assessments. This is a new instrument that ORR plans to add to this collection.

13. Home Study/Post-Release Service (HS/PRS) Referral (Form S-19): This instrument is used by ORR grantee case managers to refer a UC for a home study and/or post-release services. This is a new instrument that ORR plans to add to this collection.

14. UC Authorized/Restricted Call List and Call Log (Form S-20): This instrument is used by case managers to create a list of authorized and restricted contacts to ensure safe communication for the UC and document the details of phone calls made by a UC. This is a new instrument that ORR plans to add to this collection.

15. Home Study/Post-Release Service (HS/PRS) Primary Provider Entity (Form S-21A): This instrument is used by grantee HS/PRS providers to add identifying information about their organization into the UC Path system. Each organization only needs to be created once. Field values may be updated as often as needed. This is a new instrument that ORR plans to add to this collection.

16. Home Study/Post-Release Service (HS/PRS) Subcontractor Entity (Form S-21B): Entity record. Each organization only needs to be created once. Field values may be updated as often as needed. This is a new instrument that ORR plans to add to this collection.

17. Home Study/Post-Release Service (HS/PRS) Primary Provider Profile (Form S-21C): This instrument is used by HS/PRS providers to add identifying information about caseworkers employed by their organization. Each organization only needs to be created once. Field values may be updated as often as needed. This is a new instrument that ORR plans to add to this collection.

18. Home Study/Post-Release Service (HS/PRS) Subcontractor Profile (Form S-21D): This instrument is used by HS/PRS providers to add identifying information about caseworkers employed their sub-grantee organizations. Each organization only needs to be created once. Field values may be updated as often as needed. This is a new instrument that ORR plans to add to this collection.

19. Post-Release Service (PRS) Event (Form S-22): This instrument is used by post-release service caseworkers to document referrals made and services provided at critical junctures of service provision, such as 14-day, 6-month, 12-month, and closure. The instrument contains auto-populated sponsor information and areas to document information about the HS/PRS provider, reason for referral, the minor's placement and safety status, and services areas addressed. This is a new instrument that ORR plans to add to this collection.

20. Case Manager Call Log and Case Notes (Form S-23): This instrument is used by case managers to log any contact (in-person, phone, video, social media, or mail) they make in relation to the UC's case, including any related notes. This is a new instrument that ORR plans to add to this collection.

21. Sponsor Application (Form S-24): This instrument is used by care providers to document certain information and milestones in the sponsor application process. This is a new instrument that ORR plans to add to this collection. After publication of the 60-day Federal Register Notice, ORR reorganized the “Background Checks” data entry section of this instrument and removed the following fields: “Date ARI Form Uploaded,” “Days from Offered to Accepted,” and “Days from Accepted to Occurred.”

22. Ohio Youth Assessment System (OYAS) Reentry Tool: No changes were made to this instrument.

23. UC Case Status: ORR is discontinuing this instrument.

B. ORR plans to remove the term “alien” from the title of this information collection and revise it to read “Services Provided to Unaccompanied Children.”

C. ORR intends to conduct a phased rollout of the UC Path system. Beginning fall 2021, ORR plans to roll the UC Path system out to a small group of care provider programs. ORR will gradually expand use of the system to other programs and expects all care provider programs will be using UC Path by spring 2022. To ensure continuity of operations, care provider programs will need the ability to continue using instruments in the UC Portal system and in other formats (e.g., PDF, Excel) while they are waiting to transition over to the UC Path system. Therefore, ORR proposes continued use of the following instruments, concurrently with the UC Path versions of the same instruments, until all care provider programs are using UC Path.

1. Sponsor Assessment (Form S-5)

2. Home Study Report (Form S-6)

3. New Sponsor (Form S-7)

4. Initial Intakes Assessment (Form S-8)

5. Assessment for Risk (Form S-9)

6. UC Assessment (Form S-11)

7. UC Case Review (Form S-12)

8. Individual Service Plan (Form S-13)

9. Long Term Foster Care Travel Request (Form S-14)

Respondents: ORR grantee and contractor staff, UC, sponsors, and child advocates.

Annual Burden Estimates
Information collection title | Annual number of respondents | Annual number of responses per respondent | Average burden minutes per response | Annual total burden hours
Sponsor Assessment (Form S-5) | 216 | 265 | 60 | 57,240
Home Study Assessment (Form S-6) | 60 | 81 | 45 | 3,645
Adult Contact Profile (Form S-7) | 216 | 1324 | 45 | 214,488
Initial Intakes Assessment (Form S-8) | 216 | 278 | 20 | 20,016
Assessment for Risk (Form S-9) | 216 | 556 | 45 | 90,072
UC Assessment (Form S-11) | 216 | 278 | 120 | 120,096
UC Case Review (Form S-12) | 216 | 556 | 120 | 240,192
Individual Service Plan (Form S-13) | 216 | 694 | 20 | 49,968
Long Term Foster Care Travel Request (Form S-14) | 30 | 8 | 20 | 80
Child Advocate Recommendation and Appointment (Form S-15) | 216 | 5 | 15 | 270
Thirty Day Restrictive Placement Case Review (Form S-16) | 15 | 67 | 45 | 754
Admission (Form S-18) | 216 | 278 | 20 | 20,016
Home Study/Post-Release Service (HS/PRS) Referral (Form S-19) | 216 | 68 | 20 | 4,896
UC Authorized/Restricted Call List and Call Log (Form S-20) | 216 | 6981 | 5 | 125,658
Home Study/Post-Release Service (HS/PRS) Primary Provider Entity (Form S-21A) | 9 | 1 | 5 | 1
Home Study/Post-Release Service (HS/PRS) Subcontractor Entity (Form S-21B) | 51 | 1 | 5 | 4
Home Study/Post-Release Service (HS/PRS) Primary Provider Profile (Form S-21C) | 9 | 13 | 5 | 10
Home Study/Post-Release Service (HS/PRS) Subcontractor Profile (Form S-21D) | 51 | 13 | 5 | 55
Post-Release Service (PRS) Event (Form S-22) | 60 | 968 | 60 | 58,080
Case Manager Call Log and Case Notes (Form S-23) | 216 | 8426 | 5 | 151,668
Sponsor Application (Form S-24) | 216 | 265 | 60 | 57,240
Ohio Youth Assessment System (OYAS) Reentry Tool | 15 | 101 | 75 | 1,894
Estimated Annual Burden Hours Total: |  |  |  | 1,216,343

Authority: 6 U.S.C. 279; 8 U.S.C. 1232; Flores v. Reno Settlement Agreement, No. CV85-4544-RJK (C.D. Cal. 1996).

Mary B. Jones,
ACF/OPRE Certifying Officer.

[FR Doc. 2021-21282 Filed 9-29-21; 8:45 am]

BILLING CODE 4184-45-P